DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Report of New Privately-Owned Residential Building or Zoning Permits Issued (Building Permits Survey).

Form Number(s): C-404.

Agency Approval Number: 0607-0094.

Type of Request: Extension of a currently approved collection.

Burden: 24,166 hours.

Number of Respondents: 19,000.

Avg Hours Per Response: 10 and a half minutes.

Needs and Uses: The U.S. Census Bureau is requesting an extension of a currently approved collection of the Form C-404, “Report of Privately-Owned Residential Building or Zoning Permits Issued” otherwise known as the Building Permits Survey (BPS.) The Census Bureau uses the Form C-404 to collect data that will provide estimates of the number and valuation of new residential housing units authorized by building permits. About one half of the permit offices are requested to report monthly. The remainder are only surveyed once per year. We use the data, a component of the index of leading economic indicators, to estimate the number of housing units started, completed, and sold, if single-family. The Census Bureau also uses these data to select samples for its demographic surveys. Policymakers, planners, businessmen/women, and others use the detailed geographic data collected from state and local officials on new residential construction authorized by building permits to monitor growth and plan for local services, and to develop production and marketing plans. The BPS is the only source of statistics on residential construction for states and smaller geographic areas.

Affected Public: State, local, or tribal government.

Frequency: Monthly or annually.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: December 22, 2003.
Madeleine Clayton,
Management Analyst, Office of the Chief Information Officer.

[FR Doc. 03-32002 Filed 12-29-03; 8:45 am]

BILLING CODE 3510-07-P